DEPARTMENT OF LABOR

Employment and Training Administration

Investigations Regarding Certifications of Eligibility To Apply for Worker Adjustment Assistance

Petitions have been filed with the Secretary of Labor under section 221 (a) of the Trade Act of 1974 (“the Act”) and are identified in the Appendix to this notice. Upon receipt of these petitions, the Director of the Division of Trade Adjustment Assistance, Employment and Training Administration, has instituted investigations pursuant to section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than November 19, 2001.

Interested persons are invited to submit written comments regarding the subject matter of the investigations to the Director, Division of Trade Adjustment Assistance, at the address shown below, not later than November 19, 2001.

The petitions filed in this case are available for inspection at the Office of the Director, Division of Trade Adjustment Assistance, Employment and Training Administration, U.S. Department of Labor, Room C-5311, 200 Constitution Avenue, N.W., Washington, DC 20210.

Signed at Washington, DC, this 22nd day of October, 2001.
Edward A. Tomchick,
Director, Division of Trade Adjustment Assistance.

Appendix
[Petitions instituted on 10/22/2001]
TA-W | Subject firm (petitioners) | Location | Date of petition | Product(s)
40,231 | Weiser Lock (Co.) | Tucson, AZ | 10/12/2001 | Residential Door Hardware.
40,232 | Exide Technologies (UAW) | Burlington, IA | 10/08/2001 | Lead Acid Automotive Batteries.
40,233 | Garan Manufacturing (Wkrs) | Adamsville, TN | 10/02/2001 | Children's Apparel.
40,234 | Agere Systems (IBEW) | Orlando, FL | 09/19/2001 | Semiconductor Products.
40,235 | Ericsson (Wkrs) | Research Tri Pk, NC | 10/04/2001 | Wireless Handsets.
40,236 | Strippit LVD (IAMAW) | Akron, NY | 10/03/2001 | Metal Forming Machines.
40,237 | A and E Products (Wkrs) | Forest City, NC | 09/30/2001 | Plastic Hangers.
40,238 | Mueller Electric Co. (Wkrs) | Cleveland, OH | 10/03/2001 | Electric Test Clips.
40,239 | W.G. Benjey, Inc (Wkrs) | Alpena, MI | 09/23/2001 | Assembly Fixtures.
40,240 | SBF—Formfit Apparel (Wkrs) | Lafayette, TN | 09/15/2001 | Intimate Apparel.
40,241 | L and R Aquaculture (Wkrs) | Old Ocean, TX | 09/28/2001 | Farm Raise Catfish.
40,242 | Complex Tooling & Molding (Wkrs) | Boulder, CO | 10/09/2001 | Plastic Injection Parts.
40,243 | Paulsen Wire Rope (Co.) | Sunbury, PA | 10/04/2001 | Wire Rope.
40,244 | Winchester Electronics (Wkrs) | Watertown, CT | 10/05/2001 | Rack and Panel Brazing Assembly.
40,245 | 3M, Inc. (Wkrs) | Guin, AL | 11/02/2001 | Sheeting for Road Signs.
40,246 | Incoe Corporation (Wkrs) | Frankfort, MI | 10/03/2001 | Injection Molding Components.
40,247 | IFF, Inc. (Wkrs) | Salem, OR | 10/02/2001 | Concentrated Fruit Juice.
40,248 | ISG/Avne Systems, Ltd (Wkrs) | Bronx, NY | 10/04/2001 | Sports Collection Cards.
40,249 | Liebert Corporation (Wkrs) | Irvine, CA | 09/27/2001 | Power Supplies, Display Panels.
40,250 | Urick Foundry (USWA) | Erie, PA | 10/01/2001 | Ground Tools and Tooling.
40,251 | Pratt and Austin (Wkrs) | Holyoke, MA | 10/07/2001 | Boxed Stationery, Tablets.
40,252 | Blue Ridge Textile (Co.) | Stateville, NC | 10/02/2001 | Printed Sheeting.
40,253 | Mauney Hosiery Mills (Co.) | Kings Mountain, NC | 10/10/2001 | Socks.
40,254 | Graphic Packaging (AWPPW) | Portland, OR | 10/09/2001 | Carton Packaging.
40,255 | Thermatex Corporation (PACE) | Newton Falls, OH | 10/03/2001 | Ceramic Fiber Insulation.
40,256 | Lucent Technologies (Wkrs) | Columbus, OH | 10/10/2001 | Circuit Packs.
40,257 | H.R. Jones Veneer, Inc. (Co.) | Grand Ronde, OR | 09/28/2001 | Alder Veneer.
40,258 | Eudora Garment (Wkrs) | Eudora, AR | 10/02/2001 | Work Pants, Collars and Scrubs.

[FR Doc. 01-28164 Filed 11-8-01; 8:45 am]

BILLING CODE 4510-30-M